NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 16, 8:30 a.m.-5 p.m. and April 17, 2008, 8:30 a.m.-2 p.m.

Place: Stafford II, Room 555, National Science Foundation, 4201 Wilson Blvd., Arlington, Virginia 22230.

Type of Meeting: Open.

FOR FURTHER INFORMATION CONTACT:: Melissa Lane, National Science Foundation, Suite 705, 4201 Wilson Blvd, Arlington, Virginia 22230. Phone 703-292-8500.

Minutes: May be obtained from the contact person listed above.

Purpose of Meeting: To provide advice, recommendations, and oversight concerning support for research, education, and human resources development in the geosciences.

Agenda

April 16

Introduction of New Members

Directorate activities and plans

Meeting with the Director (or Representative)

Division Subcommittee Meetings

April 17

Discussion of Draft Strategic Plan

Planning for Fall Meeting

Dated: March 11, 2008.
Susanne Bolton,
Committee Management Officer.

[FR Doc. E8-5135 Filed 3-13-08; 8:45 am]

BILLING CODE 7555-01-P